ENVIRONMENTAL PROTECTION AGENCY

[FRL-8748-6]

Clean Water Act Section 303(d): Availability of Los Cerritos Channel Total Maximum Daily Loads (TMDLs)

AGENCY: Environmental Protection Agency (EPA).

ACTION: Notice of availability.

SUMMARY: This action announces the availability of EPA proposed total maximum daily loads (TMDLs) for the freshwater portion of Los Cerritos Channel to address elevated metals concentrations pursuant to Clean Water Act section 303(d)(1), and requests public comment. Section 303(d)(1) requires that states submit water quality planning documents called total maximum daily loads for impaired waters for which existing technology-based pollution controls are not stringent enough to attain or maintain state water quality standards. EPA must approve or disapprove the State's submitted TMDLs.

EPA is providing the public the opportunity to review proposed TMDLs for Los Cerritos Channel metals. EPA is establishing these TMDLs in lieu of California because of deadlines associated with the consent decree described under SUPPLEMENTARY INFORMATION. EPA will prepare a responsiveness summary that demonstrates how public comments were considered in the final TMDL decisions. The responsiveness document will be available when the TMDLs are established.

DATES: Comments must be submitted to EPA on or before January 22, 2009.

ADDRESSES: Comments on the proposed decisions should be sent to Karen Irwin, Water Division (WTR-2), U.S. Environmental Protection Agency Region IX, 75 Hawthorne Street, San Francisco, CA 94105, telephone (415) 947-4116, facsimile (415) 947-3537, email irwin.karen@epa.gov. Oral comments will not be considered. Copies of the proposed TMDLs for Los Cerritos Channel will be available on EPA Region 9's Web site at http://www.epa.gov/region9/water/tmdl/303d.html or by writing or calling Karen Irwin. Underlying documentation comprising the record for these TMDLs is available for public inspection at the above address.

FOR FURTHER INFORMATION CONTACT: Karen Irwin at (415) 947-4116 or irwin.karen@epa.gov.

SUPPLEMENTARY INFORMATION: Section 303(d) of the Clean Water Act requires states to identify water bodies that do not meet water quality standards and then to establish TMDLs for each water body for each pollutant of concern. TMDLs identify the maximum amount of pollutants that can be discharged to water bodies without causing violations of water quality standards. Los Cerritos Channel is included on the State of California's section 303(d) list of polluted waters due to water quality impacts associated with discharges of metals. EPA will establish TMDLs for metals in Los Cerritos Channel by March 2012 because of deadlines under a consent decree (Heal the Bay Inc., et al. v. Browner C 98-4825 SBA, entered March 24, 1999).

Dated: November 28, 2008.
Alexis Strauss,
Director, Water Division, Region IX.

[FR Doc. E8-28981 Filed 12-5-08; 8:45 am]

BILLING CODE 6560-50-P